DEPARTMENT OF DEFENSE

Department of the Air Force

[ARQ-221128A-PL]

Notice of Intent To Grant Partially Exclusive Patent License

AGENCY: Department of The Air Force, Department of Defense.

ACTION: Notice of intent.

SUMMARY: Pursuant to the Bayh-Dole Act and implementing regulations, the Department of the Air Force hereby gives notice of its intent to grant a partially exclusive in the field of Structural components and/or applications assisting in the manufacturing of structural components that operate in extreme environments and experience structural dynamic loading during operations to Hyphen Innovations, a limited liability corporation having a place of business at 4231 Pennywood Drive, Beavercreek, OH 45430.

DATES: Written objections must be filed no later than fifteen (15) calendar days after the date of publication of this Notice.

ADDRESSES: Submit written objections to Joshua Laravie, AFRL/RQSP, 2130 8TH ST, B20045 R1501, Wright-Patterson AFB, OH 45433; or Email: Afrl.rq.orta@us.af.mil. Include Docket No. ARQ-221128A-PL in the subject line of the message.

FOR FURTHER INFORMATION CONTACT: Joshua Laravie, AFRL/RQSP, 2130 8TH ST, B20045 R1501, Wright-Patterson AFB, OH 45433; or Email: Afrl.rq.orta@us.af.mil.

SUPPLEMENTARY INFORMATION:

Abstract of Patent

Methods, architectures, mechanisms and/or apparatus configured to manufacture a component (and components manufactured thereby) by optimizing a location of an internal feature of the component to be manufactured using powder fusion additive manufacturing (PFAM) based on an energy release rate being proportional to the third derivative of a component shape function and the shape function itself; the internal feature comprising one or more cavities having unfused powder disposed therein to provide vibration dampening.

Intellectual Property

U.S. Patent No. 11,305,352 by Onome Scott-Emuakpor et al. and entitled Powder fused components with unique internal structures for damping.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-01909 Filed 1-30-23; 8:45 am]

BILLING CODE 5001-10-P